DEPARTMENT OF HEALTH AND HUMAN SERVICES

45 CFR Part 147

Health Insurance Reform Requirements for the Group and Individual Health Insurance Markets

CFR Correction

In Title 45 of the Code of Federal Regulations, Parts 1 to 199, revised as of October 1, 2013, on page 700, in § 147.130, paragraphs (a)(1)(iv)(A) and (B) are removed.

[FR Doc. 2014-07217 Filed 3-28-14; 8:45 am]

BILLING CODE 1505-01-D